DEPARTMENT OF ENERGY

Federal Energy Regulatory Commission

[Docket No. ER94-142-026, et al.]

Tractebel Energy Marketing, Inc., et al.; Electric Rate and Corporate Regulation Filings

August 28, 2000.

Take notice that the following filings have been made with the Commission:

1. Tractebel Energy Marketing, Inc.

[Docket No. ER94-142-026]

Take notice that on August 23, 2000, Tractebel Energy Marketing, Inc. (TEMI), a power marketer selling electric power at wholesale pursuant to market based rate authority granted to it by the Federal Energy Regulatory Commission, tendered for a filing a triennial revised market power analysis in compliance with Commission's January 7, 1994 letter order in Docket No. ER94-142.

Comment date: September 13, 2000, in accordance with Standard Paragraph E at the end of this notice.

2. MidAmerican Energy Company

[Docket No. ER00-2774-001]

Take notice that on August 23, 2000, MidAmerican Energy Company (MidAmerican), 666 Grand Avenue, Des Moines, Iowa 50309, tendered for filing with the Commission a Power Sales Agreement dated April 29, 1998, modified by way of a First Amendment to Power Sales Agreement dated April 26, 2000, entered into with the City of Montezuma, Iowa, pursuant to MidAmerican's Rate Schedule for Power Sales, FERC Electric Tariff, Original Volume No. 5.

MidAmerican requested and the Director, Division of Tariffs and Rates—Central, approved a June 9, 2000 effective date for the Power Sales Agreement, as amended, subject to MidAmerican making a compliance filing to conform MidAmerican's previous filing in this matter dated June 8, 2000 to be consistent with the necessary filing rate schedule designations as required by Order 614, FERC Stats. & Regs. 31,096 (2000) and Southwest Power Pool Inc., 92 FERC 61,109 (2000). MidAmerican has served a copy of the compliance filing on the City of Montezuma, Iowa, the Iowa Utilities Board, the Illinois Commerce Commission and the South Dakota Public Utilities Commission.

Comment date: September 13, 2000, in accordance with Standard Paragraph E at the end of this notice.

3. California Independent System Operator Corporation

[Docket No. ER00-2383-000]

Take notice that on August 23, 2000, the California Independent System Operator Corporation (ISO), tendered for filing a Notice of Implementation, sent to Market Participants and posted on the ISO Home Page on August 22, 2000, which specifies that, effective September 1, 2000, the ISO will implement ten-minute markets.

The ISO states that this filing has been served on all parties listed on the official service list in the above-referenced docket.

Comment date: September 13, 2000, in accordance with Standard Paragraph E at the end of this notice.

4. New England Power Pool

[Docket No. ER00-3464-000]

Take notice that on August 23, 2000, the New England Power Pool (NEPOOL), Participants Committee filed for acceptance materials to terminate the membership of TXU Energy Trading Company (TXU).

At the request of TXU, the Participants Committee seeks an August 1, 2000 effective date for such termination.

The Participants Committee states that copies of these materials were sent to the New England state governors and regulatory commissions and the Participants in NEPOOL.

Comment date: September 13, 2000, in accordance with Standard Paragraph E at the end of this notice.

5. Southern Company Services, Inc.

[Docket No. ER00-3467-000]

Take notice that on August 23, 2000, Alabama Power Company (APC), tendered for filing a Service Agreement for Supply of Electric Service to Electric Membership and Electric Cooperative Corporations under Rate Schedule REA-1 of its First Revised FERC Electric Tariff Original Volume No. 1 (Tariff). Pursuant to that service agreement, APC will provide electric service to Black Warrior Electric Membership Corporation at a new Millwood Delivery Point located in Hale County, Alabama. In addition, APC is refiling the Tariff to comply with the Commission's electric rate schedule designation requirements contained in the Commission's Order No. 614.

Comment date: September 13, 2000, in accordance with Standard Paragraph E at the end of this notice.

6. St. Joseph Light & Power Company

[Docket No. ER00-3468-000]

Take notice that on August 23, 2000, St. Joseph Light & Power Company (SJLP), tendered for filing with the Federal Energy Regulatory Commission First Revised Sheet No. 82 to SJLP's open access transmission tariff, which is designated FERC Electric Tariff, First Revised Volume No. 1. SJLP states that the purpose of this filing is to adopt the Mid-Continent Area Power Pool's revised Line Loading Relief procedures approved by the Commission on August 1, 2000, in Mid-Continent Area Power Pool, Docket Nos. ER99-2649-001, et al.

SJLP requests an effective date of August 1, 2000, for this filing.

Comment date: September 13, 2000, in accordance with Standard Paragraph E at the end of this notice.

7. Commonwealth Edison Company

[Docket No. ER00-3469-000]

Take notice that on August 23, 2000, Commonwealth Edison Company (ComEd), tendered for filing an executed service agreement for short term sales with Public Service Electric and Gas Company (PSE&G) under ComEd's FERC Electric Market Based-Rate Schedule for power sales.

ComEd requests and effective date of August 10, 2000, for the service agreement and accordingly seeks waiver of the Commission's notice requirements.

Copies of this filing were served on PSE&G.

Comment date: September 13, 2000, in accordance with Standard Paragraph E at the end of this notice.

8. Allegheny Energy Service Corporation, on behalf of Allegheny Energy Supply Company LLC

[Docket No. ER00-3470-000]

Take notice that on August 23, 2000, Allegheny Energy Service Corporation on behalf of Allegheny Energy Supply Company, LLC (Allegheny Energy Supply Company), tendered for filing the Second Revised Service Agreement No. 29 to complete the filing requirement for one (1) new Customer, Dynegy Power Marketing, Inc., of the Market Rate Tariff under which Allegheny Energy Supply offers generation services. The Service Agreement portion of Second Revised Service Agreement No. 29 will maintain the effective date of November 18, 1999, in accordance with the Commission's Basket Acceptance Order at Docket No. ER00-854-000 and the effective date of the Netting Agreement will remain May 24, 2000 in accordance with the Commission's Order at Docket No. ER00-2798-000.

Copies of the filing have been provided to the Public Utilities Commission of Ohio, the Pennsylvania Public Utility Commission, the Maryland Public Service Commission, the Virginia State Corporation Commission, the West Virginia Public Service Commission, and all parties of record.

Comment date: September 13, 2000, in accordance with Standard Paragraph E at the end of this notice.

9. Louisville Gas and Electric Company/Kentucky Utilities Company

[Docket No. ER00-3471-000]

Take notice that on August 23, 2000, Louisville Gas and Electric Company (LG&E)/Kentucky Utilities (KU) (hereinafter Companies), tendered for filing an executed unilateral Service Sales Agreement between Companies and Public Service Company of Colorado under the Companies' Rate Schedule MBSS.

Comment date: September 13, 2000, in accordance with Standard Paragraph E at the end of this notice.

10. Central Illinois Light Company

[Docket No. ER00-3472-000]

Take notice that on August 23, 2000, Central Illinois Light Company (CILCO), 300 Liberty Street, Peoria, Illinois 61602, tendered for filing with the Commission a substitute Index of Point-To-Point Transmission Service Customers under its Open Access Transmission Tariff reflecting a notice of contract termination from AYP Energy, Inc.

CILCO requested an effective date of August 20, 2000 for the termination notice.

Copies of the filing were served on the affected customers and the Illinois Commerce Commission.

Comment date: September 13, 2000, in accordance with Standard Paragraph E at the end of this notice.

11. Northern Maine Independent System Administrator, Inc.

[Docket No. ER00-3474-000]

Take notice that on August 23, 2000, Northern Maine Independent System Administrator, Inc. (NMISA), tendered for filing an amendment to its Market Rules, FERC Electric Rate Schedule No. 2.

NMISA requests an effective date of September 1, 2000.

Comment date: September 13, 2000, in accordance with Standard Paragraph E at the end of this notice.

12. PPL EnergyPlus, LLC

[Docket No. ER00-3475-000]

Take notice that on August 23, 2000, PPL EnergyPlus, LLC, tendered for filing a notice of cancellation of Service Agreement No. 90 under PPL EnergyPlus, LLC Rate Schedule FERC No. 1, between PPL EnergyPlus, LLC and Central Vermont Public Service, Inc.

PPL EnergyPlus, LLC requests an effective date of this cancellation of October 23, 2000.

Notice of the proposed cancellation has been served upon Central Vermont Public Service, Inc.

Comment date: September 13, 2000, in accordance with Standard Paragraph E at the end of this notice.

13. PPL EnergyPlus, LLC

[Docket No. ER00-3476-000]

Take notice that on August 23, 2000, PPL EnergyPlus, LLC, tendered for filing a notice of cancellation of Service Agreement No. 36 under PPL EnergyPlus, LLC Rate Schedule FERC No. 1, between PPL EnergyPlus, LLC and Cinergy Operating Companies.

PPL EnergyPlus, LLC requests an effective date of this cancellation of October 23, 2000.

Notice of the proposed cancellation has been served upon Cinergy Operating Companies.

Comment date: September 13, 2000, in accordance with Standard Paragraph E at the end of this notice.

14. PPL EnergyPlus, LLC

[Docket No. ER00-3477-000]

Take notice that on August 23, 2000, PPL EnergyPlus, LLC tendered for filing a notice of cancellation of Service Agreement No. 9 under PPL EnergyPlus, LLC Rate Schedule FERC No. 1, between PPL EnergyPlus, LLC and North American Energy Conservation, Inc.

PPL EnergyPlus, LLC requests an effective date of this cancellation of October 23, 2000.

Notice of the proposed cancellation has been served upon North American Energy Conservation, Inc.

Comment date: September 13, 2000, in accordance with Standard Paragraph E at the end of this notice.

15. PPL EnergyPlus, LLC

[Docket No. ER00-3478-000]

Take notice that on August 23, 2000, PPL EnergyPlus, LLC tendered for filing a notice of cancellation of Service Agreement No. 18 under PPL EnergyPlus, LLC Rate Schedule FERC No. 1, between PPL EnergyPlus, LLC and NP Energy, Inc.

PPL EnergyPlus, LLC requests an effective date of this cancellation of October 23, 2000.

Notice of the proposed cancellation has been served upon NP Energy, Inc.

Comment date: September 13, 2000, in accordance with Standard Paragraph E at the end of this notice.

16. PPL EnergyPlus, LLC

[Docket No. ER00-3479-000]

Take notice that on August 23, 2000, PPL EnergyPlus, LLC tendered for filing a notice of cancellation of Service Agreement No. 113 under PPL EnergyPlus, LLC Rate Schedule FERC No. 1, between PPL EnergyPlus, LLC and Niagara Mohawk Energy Marketing, Inc.

PPL EnergyPlus, LLC requests an effective date of this cancellation of October 23, 2000.

Notice of the proposed cancellation has been served upon Niagara Mohawk Energy Marketing, Inc.

Comment date: September 13, 2000, in accordance with Standard Paragraph E at the end of this notice.

17. PPL EnergyPlus, LLC

[Docket No. ER00-3480-000]

Take notice that on August 23, 2000, PPL EnergyPlus, LLC tendered for filing a notice of cancellation of Service Agreement No. 58 under PPL EnergyPlus, LLC Rate Schedule FERC No. 1, between PPL EnergyPlus, LLC and Merchant Energy Group of the Americas, Inc.

PPL EnergyPlus, LLC requests an effective date of this cancellation of October 23, 2000.

Notice of the proposed cancellation has been served upon Merchant Energy Group of the Americas, Inc.

Comment date: September 13, 2000, in accordance with Standard Paragraph E at the end of this notice.

18. PPL EnergyPlus, LLC

[Docket No. ER00-3481-000]

Take notice that on August 23, 2000, PPL EnergyPlus, LLC tendered for filing a notice of cancellation of Service Agreement No. 72 under PPL EnergyPlus, LLC Rate Schedule FERC No. 1, between PPL EnergyPlus, LLC and Constellation Power Source, Inc.

PPL EnergyPlus, LLC requests an effective date of this cancellation of October 23, 2000.

Notice of the proposed cancellation has been served upon Constellation Power Source, Inc.

Comment date: September 13, 2000, in accordance with Standard Paragraph E at the end of this notice.

19. PPL EnergyPlus, LLC

[Docket No. ER00-3482-000]

Take notice that on August 23, 2000, PPL EnergyPlus, LLC tendered for filing a notice of cancellation of Service Agreement No. 7 under PPL EnergyPlus, LLC Rate Schedule FERC No. 1, between PPL EnergyPlus, LLC and Conectiv Energy Supply.

PPL EnergyPlus, LLC requests an effective date of this cancellation of October 23, 2000.

Notice of the proposed cancellation has been served upon Conectiv Energy Supply.

Comment date: September 13, 2000, in accordance with Standard Paragraph E at the end of this notice.

20. PPL EnergyPlus, LLC

[Docket No. ER00-3483-000]

Take notice that on August 23, 2000, PPL EnergyPlus, LLC tendered for filing a notice of cancellation of Service Agreement No. 28 under PPL EnergyPlus, LLC Rate Schedule FERC No. 1, between PPL EnergyPlus, LLC and Columbia Power Marketing Corporation.

PPL EnergyPlus, LLC requests an effective date of this cancellation of October 23, 2000.

Notice of the proposed cancellation has been served upon Columbia Power Marketing Corporation.

Comment date: September 13, 2000, in accordance with Standard Paragraph E at the end of this notice.

21. PPL EnergyPlus, LLC

[Docket No. ER00-3484-000]

Take notice that on August 23, 2000, PPL EnergyPlus, LLC tendered for filing a notice of cancellation of Service Agreement No. 21 under PPL EnergyPlus, LLC Rate Schedule FERC No. 1, between PPL EnergyPlus, LLC and QST Energy Trading, Inc.

PPL EnergyPlus, LLC requests an effective date of this cancellation of October 23, 2000.

Notice of the proposed cancellation has been served upon QST Energy Trading, Inc.

Comment date: September 13, 2000, in accordance with Standard Paragraph E at the end of this notice.

22. PPL EnergyPlus, LLC

[Docket No. ER00-3485-000]

Take notice that on August 23, 2000, PPL EnergyPlus, LLC tendered for filing a notice of cancellation of Service Agreement No. 35 under PPL EnergyPlus, LLC Rate Schedule FERC No. 1, between PPL EnergyPlus, LLC and Commonwealth Edison Corporation.

PPL EnergyPlus, LLC requests an effective date of this cancellation of October 23, 2000.

Notice of the proposed cancellation has been served upon Commonwealth Edison Corporation.

Comment date: September 13, 2000, in accordance with Standard Paragraph E at the end of this notice.

23. PPL Electric Utilities Corporation

[Docket No. ER00-3486-000]

Take notice that on August 23, 2000, PPL Electric Utilities Corporation d/b/a PPL Utilities (formerly known as PP&L, Inc.), tendered for filing a notice of cancellation of Service Agreement No. 13 under PPL Utilities FERC Electric Tariff, First Revised Volume No. 5, between PPL Utilities and First Energy Corporation.

PPL Utilities requests an effective date of this cancellation of October 23, 2000.

Notice of the proposed cancellation has been served upon First Energy Corporation.

Comment date: September 13, 2000, in accordance with Standard Paragraph E at the end of this notice.

24. PPL EnergyPlus, LLC

[Docket No. ER00-3487-000]

Take notice that on August 23, 2000, PPL EnergyPlus, LLC tendered for filing a notice of cancellation of Service Agreement No. 30 under PPL EnergyPlus, LLC Rate Schedule FERC No. 1, between PPL EnergyPlus, LLC and Green Mountain Power.

PPL EnergyPlus, LLC requests an effective date of this cancellation of October 23, 2000.

Notice of the proposed cancellation has been served upon Green Mountain Power.

Comment date: September 13, 2000, in accordance with Standard Paragraph E at the end of this notice.

25. PPL EnergyPlus, LLC

[Docket No. ER00-3488-000]

Take notice that on August 23, 2000, PPL EnergyPlus, LLC tendered for filing a notice of cancellation of Service Agreement No. 19 under PPL EnergyPlus, LLC Rate Schedule FERC No. 1, between PPL EnergyPlus, LLC and Allegheny Power.

PPL EnergyPlus, LLC requests an effective date of this cancellation of October 23, 2000.

Notice of the proposed cancellation has been served upon Allegheny Power.

Comment date: September 13, 2000, in accordance with Standard Paragraph E at the end of this notice.

26. PPL EnergyPlus, LLC

[Docket No. ER00-3489-000]

Take notice that on August 23, 2000, PPL EnergyPlus, LLC tendered for filing a notice of cancellation of Service Agreement No. 66 under PPL EnergyPlus, LLC Rate Schedule FERC No. 1, between PPL EnergyPlus, LLC and Aquila Power Corporation.

PPL EnergyPlus, LLC requests an effective date of this cancellation of October 23, 2000.

Notice of the proposed cancellation has been served upon Aquila Power Corporation.

Comment date: September 13, 2000, in accordance with Standard Paragraph E at the end of this notice.

27. PPL EnergyPlus, LLC

[Docket No. ER00-3490-000]

Take notice that on August 23, 2000, PPL EnergyPlus, LLC tendered for filing a notice of cancellation of Service Agreement No. 24 under PPL EnergyPlus, LLC Rate Schedule FERC No. 1, between PPL EnergyPlus, LLC and AYP Energy, Inc.

PPL EnergyPlus, LLC requests an effective date of this cancellation of October 23, 2000.

Notice of the proposed cancellation has been served upon AYP Energy, Inc.

Comment date: September 13, 2000, in accordance with Standard Paragraph E at the end of this notice.

28. PPL EnergyPlus, LLC

[Docket No. ER00-3491-000]

Take notice that on August 23, 2000, PPL EnergyPlus, LLC tendered for filing a notice of cancellation of Service Agreement No. 77 under PPL EnergyPlus, LLC Rate Schedule FERC No. 1, between PPL EnergyPlus, LLC and Cinergy Capital & Trading, Inc.

PPL EnergyPlus, LLC requests an effective date of this cancellation of October 23, 2000.

Notice of the proposed cancellation has been served upon Cinergy Capital & Trading, Inc.

Comment date: September 13, 2000, in accordance with Standard Paragraph E at the end of this notice.

29. PPL EnergyPlus, LLC

[Docket No. ER00-3492-000]

Take notice that on August 23, 2000, PPL EnergyPlus, LLC tendered for filing a notice of cancellation of Service Agreement No. 14 under PPL EnergyPlus, LLC Rate Schedule FERC No. 1, between PPL EnergyPlus, LLC and Dayton Power and Light Company.

PPL EnergyPlus, LLC requests an effective date of this cancellation of October 23, 2000.

Notice of the proposed cancellation has been served upon Dayton Power and Light Company.

Comment date: September 13, 2000, in accordance with Standard Paragraph E at the end of this notice.

30. PPL Electric Utilities Corporation

[Docket No. ER00-3493-000]

Take notice that on August 23, 2000, PPL Electric Utilities Corporation d/b/a PPL Utilities (formerly known as PP&L, Inc.) tendered for filing a notice of cancellation of Service Agreement No. 12 under PPL Utilities FERC Electric Tariff, First Revised Volume No. 5, between PPL Utilities and DTE Energy Trading, Inc.

PPL Utilities requests an effective date of this cancellation of October 23, 2000.

Notice of the proposed cancellation has been served upon DTE Energy Trading, Inc.

Comment date: September 13, 2000, in accordance with Standard Paragraph E at the end of this notice.

31. PPL EnergyPlus, LLC

[Docket No. ER00-3494-000]

Take notice that on August 23, 2000, PPL EnergyPlus, LLC tendered for filing a notice of cancellation of Service Agreement No. 69 under PPL EnergyPlus, LLC Rate Schedule FERC No. 1, between PPL EnergyPlus, LLC and Duquesne Light Company.

PPL EnergyPlus, LLC requests an effective date of this cancellation of October 23, 2000.

Notice of the proposed cancellation has been served upon Duquesne Light Company.

Comment date: September 13, 2000, in accordance with Standard Paragraph E at the end of this notice.

32. PPL EnergyPlus, LLC

[Docket No. ER00-3495-000]

Take notice that on August 23, 2000, PPL EnergyPlus, LLC tendered for filing a notice of cancellation of Service Agreement No. 40 under PPL EnergyPlus, LLC Rate Schedule FERC No. 1, between PPL EnergyPlus, LLC and NESI Power Marketing, Inc.

PPL EnergyPlus, LLC requests an effective date of this cancellation of October 23, 2000.

Notice of the proposed cancellation has been served upon NESI Power Marketing, Inc.

Comment date: September 13, 2000, in accordance with Standard Paragraph E at the end of this notice.

33. PPL EnergyPlus, LLC

[Docket No. ER00-3496-000]

Take notice that on August 23, 2000, PPL EnergyPlus, LLC tendered for filing a notice of cancellation of Service Agreement No. 42 under PPL EnergyPlus, LLC Rate Schedule FERC No. 1, between PPL EnergyPlus, LLC and Duke Power.

PPL EnergyPlus, LLC requests an effective date of this cancellation of October 23, 2000.

Notice of the proposed cancellation has been served upon Duke Power.

Comment date: September 13, 2000, in accordance with Standard Paragraph E at the end of this notice.

34. PPL EnergyPlus, LLC

[Docket No. ER00-3497-000]

Take notice that on August 23, 2000, PPL EnergyPlus, LLC tendered for filing a notice of cancellation of Service Agreement No. 15 under PPL EnergyPlus, LLC Rate Schedule FERC No. 1, between PPL EnergyPlus, LLC and New Energy, Inc.

PPL EnergyPlus, LLC requests an effective date of this cancellation of October 23, 2000.

Notice of the proposed cancellation has been served upon New Energy, Inc.

Comment date: September 13, 2000, in accordance with Standard Paragraph E at the end of this notice.

35. PPL EnergyPlus, LLC

[Docket No. ER00-3498—000]

Take notice that on August 23, 2000, PPL EnergyPlus, LLC tendered for filing a notice of cancellation of Service Agreement No. 99 under PPL EnergyPlus, LLC Rate Schedule FERC No. 1, between PPL EnergyPlus, LLC and Williams Energy Marketing & Trading Company.

PPL EnergyPlus, LLC requests an effective date of this cancellation of October 23, 2000.

Notice of the proposed cancellation has been served upon Williams Energy Marketing & Trading Company.

Comment date: September 13, 2000, in accordance with Standard Paragraph E at the end of this notice.

36. PPL EnergyPlus, LLC

[Docket No. ER00-3499-000]

Take notice that on August 23, 2000, PPL EnergyPlus, LLC tendered for filing a notice of cancellation of Service Agreement No. 131 under PPL EnergyPlus, LLC Rate Schedule FERC No. 1, between PPL EnergyPlus, LLC and NRG Power Marketing, Inc.

PPL EnergyPlus, LLC requests an effective date of this cancellation of October 23, 2000.

Notice of the proposed cancellation has been served upon NRG Power Marketing, Inc.

Comment date: September 13, 2000, in accordance with Standard Paragraph E at the end of this notice.

37. PPL EnergyPlus, LLC

[Docket No. ER00-3500-000]

Take notice that on August 23, 2000, PPL EnergyPlus, LLC tendered for filing a notice of cancellation of Service Agreement No. 22 under PPL EnergyPlus, LLC Rate Schedule FERC No. 1, between PPL EnergyPlus, LLC and Enron Power Marketing, Inc.

PPL EnergyPlus, LLC requests an effective date of this cancellation of October 23, 2000.

Notice of the proposed cancellation has been served upon Enron Power Marketing, Inc.

Comment date: September 13, 2000, in accordance with Standard Paragraph E at the end of this notice.

38. PPL EnergyPlus, LLC

[Docket No. ER00-3501-000]

Take notice that on August 23, 2000, PPL EnergyPlus, LLC tendered for filing a notice of cancellation of Service Agreement No. 31 under PPL EnergyPlus, LLC Rate Schedule FERC No. 1, between PPL EnergyPlus, LLC and Dynegy Power Marketing Company.

PPL EnergyPlus, LLC requests an effective date of this cancellation of October 23, 2000.

Notice of the proposed cancellation has been served upon Dynegy Power Marketing Company.

Comment date: September 13, 2000, in accordance with Standard Paragraph E at the end of this notice.

39. PPL EnergyPlus, LLC

[Docket No. ER00-3502-000]

Take notice that on August 23, 2000, PPL EnergyPlus, LLC tendered for filing a notice of cancellation of Service Agreement No. 44 under PPL EnergyPlus, LLC Rate Schedule FERC No. 1, between PPL EnergyPlus, LLC and East Kentucky Power Cooperative, Inc.

PPL EnergyPlus, LLC requests an effective date of this cancellation of October 23, 2000.

Notice of the proposed cancellation has been served upon East Kentucky Power Cooperative, Inc.

Comment date: September 13, 2000, in accordance with Standard Paragraph E at the end of this notice.

40. PPL EnergyPlus, LLC

[Docket No. ER00-3503-000]

Take notice that on August 23, 2000, PPL EnergyPlus, LLC tendered for filing a notice of cancellation of Service Agreement No. 8 under PPL EnergyPlus, LLC Rate Schedule FERC No. 1, between PPL EnergyPlus, LLC and Atlantic Electric.

PPL EnergyPlus, LLC requests an effective date of this cancellation of October 23, 2000.

Notice of the proposed cancellation has been served upon Atlantic Electric.

Comment date: September 13, 2000, in accordance with Standard Paragraph E at the end of this notice.

41. PPL EnergyPlus, LLC

[Docket No. ER00-3504-000]

Take notice that on August 23, 2000, PPL EnergyPlus, LLC tendered for filing a notice of cancellation of Service Agreement No. 108 under PPL EnergyPlus, LLC Rate Schedule FERC No. 1, between PPL EnergyPlus, LLC and Select Energy, Inc.

PPL EnergyPlus, LLC requests an effective date of this cancellation of October 23, 2000.

Notice of the proposed cancellation has been served upon Select Energy, Inc.

Comment date: September 13, 2000, in accordance with Standard Paragraph E at the end of this notice.

42. PPL EnergyPlus, LLC

[Docket No. ER00-3505-000]

Take notice that on August 23, 2000, PPL EnergyPlus, LLC tendered for filing a notice of cancellation of Service Agreement No. 129 under PPL EnergyPlus, LLC Rate Schedule FERC No. 1, between PPL EnergyPlus, LLC and Morgan Stanley Capital Group, Inc.

PPL EnergyPlus, LLC requests an effective date of this cancellation of October 23, 2000.

Notice of the proposed cancellation has been served upon Morgan Stanley Capital Group, Inc.

Comment date: September 13, 2000, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-22582 Filed 9-1-00; 8:45 am]

BILLING CODE 6717-01-P